DEPARTMENT OF LABOR

Employment and Training Administration

[TA-W-54,901]

Springfield Plastics, Inc., East Springfield, PA; Notice of Termination of Investigation

Pursuant to Section 221 of the Trade Act of 1974, as amended, an investigation was initiated on May 12, 2004 in response to a petition filed by a company official on behalf of workers at Springfield Plastics, Inc., East Springfield, Pennsylvania.

The petitioner has requested that the petition be withdrawn. Consequently, the investigation has been terminated.

Signed at Washington, DC this 20th day of May 2004.
Linda G. Poole,
Certifying Officer, Division of Trade Adjustment Assistance.

[FR Doc. 04-12879 Filed 6-7-04; 8:45 am]

BILLING CODE 4510-30-P